DEPARTMENT OF TRANSPORTATION

Federal Motor Carrier Safety Administration

[Docket No. FMCSA-2025-0226]

Commercial Driver's License: Agri-Tech Aviation; Application for Exemption

AGENCY: Federal Motor Carrier Safety Administration (FMCSA), Department of Transportation (DOT).

ACTION: Notice of application for exemption; request for comments.

SUMMARY: FMCSA requests public comment on Agri-Tech Aviation, Inc.'s application for an exemption to allow its commercial learner's permit (CLP) holders who have passed the commercial driver's license (CDL) skills test but not yet obtained a CDL license to drive its commercial motor vehicles (CMV) without being accompanied by a CDL holder in the passenger seat.

DATES: Comments must be received on or before December 24, 2025.

ADDRESSES: You may submit comments identified by Docket Number FMCSA-2025-0226 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: 1200 New Jersey Avenue SE, West Building, Ground Floor, Washington, DC 20590-0001, between 9 a.m. and 5 p.m., Monday through Friday, except Federal holidays.

• Fax: (202) 493-2251.

Each submission must include the Agency name and the docket number (FMCSA-2025-0226) for this notice. Note that DOT posts all comments received without change to www.regulations.gov, including any personal information included in a comment. Please see the Privacy Act heading below.

Privacy Act: In accordance with 49 U.S.C. 31315(b), DOT solicits comments from the public to better inform its exemption process. DOT posts these comments, including any personal information the commenter provides, to www.regulations.gov, as described in the system of records notice DOT/ALL-14 FDMS (Federal Docket Management System (FDMS)), which can be reviewed at https://www.transportation.gov/individuals/privacy/privacy-act-system-records-notices. The comments are posted without edit and are searchable by the name of the submitter.

FOR FURTHER INFORMATION CONTACT: Bernadette Walker, FMCSA Driver and Carrier Operations Division; Office of Carrier, Driver and Vehicle Safety Standards; 202-507-0363 or bernadette.walker@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2025-0226), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2025-0226/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov, insert FMCSA-2025-0226 in the keyword box, select the document tab and choose the document to review. To view comments, click this notice, then click “Browse Comments.” If you do not have access to the internet, you may view the docket by visiting Docket Operations on the ground floor of the DOT West Building, 1200 New Jersey Avenue SE., Washington, DC 20590—0001, between 9 a.m. and 5 p.m., ET Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirements

Under 49 CFR 383.25(a)(1), a CLP holder, when operating a CMV, must be accompanied by a CDL holder with the proper CDL class and endorsements necessary to operate the CMV. The CDL holder must be physically present in the front seat of the CMV next to the CLP holder at all times.

Applicant's Request

Agri-Tech Aviation states that it serves farmers in Iowa with aerial application needs. The organization has been in business since 1987 and operates with a fleet of five CMVs; two straight trucks that hold 500 gallons of jet fuel for dry operations, and three Ford F550 flatbed trucks with a 30-foot gooseneck capable of carrying up to 900 gallons of jet fuel and 1350 gallons of crop protection products, most of which fall under Class 9 (miscellaneous hazardous materials) and do not require placarding. The applicant states that it operates only in Iowa. Its drivers operate within a 150-air mile radius from their home base, departing before sunrise and returning before sunset. The applicant operates with team drivers for 2-3 hours a day, usually during light traffic. The applicant describes its employees as seasonal staff who are college students and individuals over the age 18.

The applicant stated that the brief operational season for aerial applications makes it “nearly impossible to recruit qualified drivers.” According to the applicant, as a seasonal business, it takes more than a full season for a potential driver to fulfill the requirements for a Class A CDL with combination and hazmat endorsements. The applicant stated it's “full request” is an exemption from the requirement in 49 CFR 383.25(a)(1), for “drivers to be able to drive our vehicles with commercial learner's permit holders who have passed the commercial driver's license (CDL) skills test but have not obtained the CDL document from their State of domicile to drive a commercial motor vehicle without having a CDL holder seated in the passenger seat.” FMCSA understand this to be a request about current CLP holders, so that drivers with CLPs working for the applicant can drive the applicant's CMVs without a CDL holder seated in the front seat of the CMV. If granted, this exemption would apply to six drivers.

Additionally, because its operation is seasonal and “serves farmers directly with critical service to protect their farms,” the applicant also requests that its CMVs be included in the definition of a “covered farm vehicle,” as defined in 49 CFR 390.5. The applicant states that this “will require these drivers to stay within 150 air miles and will only be allowed to drive in the state of Iowa.” Under 49 CFR 390.39, “covered farm vehicles” are exempt from all requirements in 49 parts 382, 383, 391 (subpart E), 395, and 396. As defined in 49 CFR 390.5, “covered farm vehicles” with a gross vehicle weight rating (GVWR), gross combination weight rating (GCWR), or gross vehicle weight (GVW) or gross combination weight (GCW), whichever is greater, of more than 26,001 pounds may use the exemptions in 49 CFR 390.39 within the State of registration and across State lines within 150 air miles of the farm or ranch with respect to which the vehicle is being operated, while vehicles with a GVWR, GCWR, GVW, or GCW of 26,001 pounds or less may use the exemptions anywhere in the United States. Based on this request, FMCSA attempted to clarify whether Applicant was seeking exemptions from all of parts 382, 383, 391 (subpart E), 395, and 396, but was unable to verify the provisions the applicant sought an exemption from. Under 49 CFR 390.39(a)(1), drivers of “covered farm vehicles” are exempt from the CDL requirements. Agri-Tech Aviation's request to have FMCSA classify its trucks as “covered farm vehicles” is therefore incompatible with its request for an exemption from the CDL requirement of 49 CFR 383.25(a)(1). Because the applicant's “full request” did not specifically seek an exemption other than from 49 CFR 383.25(a)(1), FMCSA is not seeking comment on the portion of the applicant's request pertaining to the definition of “covered farm vehicles.”

A copy of Agri-Tech Aviation's application for exemption is available for review in the docket for this notice.

IV. Request for Comments

In accordance with 49 U.S.C. 31315(b), FMCSA requests public comment from all interested persons on Agri-Tech Aviation's application for an exemption from the requirement that a CLP holder be accompanied by a CDL holder, seated in the front seat, while the CMV is being driven by the CLP holder.

All comments received before the close of business on the comment closing date will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2025-20676 Filed 11-21-25; 8:45 am]

BILLING CODE 4910-EX-P